DEPARTMENT OF ENERGY

Energy Efficiency and Renewable Energy

State Energy Advisory Board (STEAB) Meeting

AGENCY: Energy Efficiency and Renewable Energy, Department of Energy.

ACTION: Notice of open live board meeting.

SUMMARY: This notice announces a Board meeting of the State Energy Advisory Board (STEAB). The Federal Advisory Committee Act (Pub. L. 92-463; 86 Stat. 770) requires that public notice of these meetings be announced in the Federal Register.

DATES: June 14, 2016 9:00 a.m. to 5:30 p.m.; June 15, 2016 9:00 a.m. to 3:30 p.m.

ADDRESSES: Lawrence Berkeley National Laboratory, 1 Cyclotron Rd, Berkeley, CA 94720 (Exact meeting room TBD).

FOR FURTHER INFORMATION CONTACT: Michael Li, Policy Advisor, Office of Energy Efficiency and Renewable Energy, U.S. Department of Energy, 1000 Independence Ave. SW., Washington, DC 20585. Phone number 202-287-5189, and email Michael.li@ee.doe.gov.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Meet with and hear from the team at the Lawrence Berkeley Laboratory to get an overview of projects based around energy efficiency and reliability. Also to see how STEAB members can be engaged in upcoming projects lab members are working on.

Public Participation: The meeting is open to the public. Written statements may be filed with the Board either before or after the meeting. Members of the public who wish to make oral statements pertaining to agenda items should contact Monica Neukomm at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 90 days on the STEAB Web site, http://www.energy.gov/eere/steab/state-energy-advisory-board.

Issued at Washington, DC, on May 13, 2016.
LaTanya Butler,
Deputy Committee Management Officer.

[FR Doc. 2016-11913 Filed 5-18-16; 8:45 am]

BILLING CODE 6450-01-P